NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 3, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Grain Inspection, Packers, and Stockyards Administration (N1-545-09-1, 2 items, 2 temporary items). Records relating to the agency's internal and public Web sites. Included are Web management records as well as Web content.

2. Department of Agriculture, Risk Management Agency (N1-258-08-3, 11 items, 11 temporary items). Records relating to crop insurance products and providers, including such records as insurance fund management and operations records, accounting records, and records pertaining to debt management.

3. Department of Agriculture, Risk Management Agency (N1-258-08-4, 1 item, 1 temporary item). Records relating to requests for interpretations of agency procedures. Included are requests, interpretations, appeals, and background files.

4. Department of Agriculture, Risk Management Agency (N1-258-08-5, 6 items, 5 temporary items). Records relating to the development and management of crop insurance plans for specific crops. Proposed for permanent retention are final policy dockets reviewed and approved by the Federal Crop Insurance Corporation Board.

5. Department of Agriculture, Risk Management Agency (N1-258-08-7, 3 items, 3 temporary items). Proposals, project files, and other records supporting risk management partnerships, grants, and cooperative agreements.

6. Department of Agriculture, Risk Management Agency (N1-258-08-8, 4 items, 4 temporary items). Records relating to maximum yields used to monitor production, files that pertain to non-reinsured supplemental insurance products, division-level weekly reports, and general correspondence with industry associations.

7. Department of the Army, Agency-wide (N1-AU-09-2, 1 item, 1 temporary item). Master files of an electronic information system that contains records management information, such as records retention schedules, file plans, user lists, and unit profile data.

8. Department of Education, Office of Communications and Outreach (N1-441-08-12, 7 items, 1 temporary item). Routine communications records, including such records as photographs of award and retirement ceremonies, inquiries received from the media, reference copies of publications, radio news feeds on education issues, and artwork created in connection with the production of publications. Proposed for permanent retention are publications, posters, photographs, video recordings, and testimony by senior officials that relate to the agency's mission and substantive policies and activities.

9. Department of Health and Human Services, Food and Drug Administration (N1-88-08-1, 22 items, 22 temporary items). Records relating to medical device pre-marketing applications and post-marketing surveillance, radiological product monitoring, and x-ray trend surveys.

10. Department of Health and Human Services, Food and Drug Administration (N1-88-08-3, 5 items, 5 temporary items). Records relating to training, including such records as course descriptions and materials, course rosters, training reports, and employee training and certification records.

11. Department of Homeland Security, Headquarters Offices (N1-563-08-3, 11 items, 8 temporary items). Distribution lists, copies of grant project files, interagency agreements, responses to requests for information, presentations and speeches by non-executive level staff, and situation awareness reports maintained by non-executive level staff and staff outside of the National Operations Center. Proposed for permanent retention are biographies of senior level staff, brochures, publications, and posters.

12. Department of Justice, Justice Management Division (N1-60-08-27, 5 items, 4 temporary items). Records of the Audit Liaison Group, including such records as audit and investigation files, background materials, and correspondence. Final Inspector General and Attorney General semi-annual reports to Congress are proposed for permanent retention.

13. Department of Justice, Justice Management Division (N1-60-09-4, 6 items, 6 temporary items). Records of the Justice Command Center, including such records as watch logs, message logs, contact lists, and travel logs. Also included are master files of the Justice Automated Command Center System, which tracks incoming calls and messages and also includes information on key agency personnel, such as contact information, travel status, and committee appointments.

14. Department of Justice, Bureau of Prisons (N1-129-09-4, 1 item, 1 temporary item). Master files for an electronic information system used to track and maintain control over tools and shop equipment.

15. Department of Justice, Federal Bureau of Investigation (N1-65-06-9, 3 items, 3 temporary items). Outputs, usage agreements, memorandums of understanding, and security audit logs associated with the National DNA Indexing System.

16. Department of Justice, Federal Bureau of Investigation (N1-65-09-3, 10 items, 10 temporary items). Records relating to agency health care activities. Records relate to such matters as emergency medicine programs, fitness for duty programs, alcohol and controlled substance abuse programs, and regional health care.

17. Environmental Protection Agency, Agency-wide (N1-412-07-61, 3 items, 2 temporary items). Records relating to disaster response, other than records relating to disasters that are designated as major disasters by the President. Included are such records as damage surveys, damage assessments, environmental samplings, and inspection reports. Paper copies of these records were previously approved for disposal. Proposed for permanent retention are records relating to disasters designated as major disasters by the President.

18. Federal Communications Commission, Media Bureau (N1-173-08-9, 7 items, 7 temporary items). Master files of an electronic information system used for such purposes as submitting cable community registrations, making operator information changes, and filing annual signal leakage reports and aeronautical frequency notifications.

Dated: February 27, 2009.
Michael J. Kurtz,
Assistant Archivist for Records Services—Washington, DC.

[FR Doc. E9-4729 Filed 3-3-09; 8:45 am]

BILLING CODE 7515-01-P